FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 6, 2000.

A. Federal Reserve Bank of Chicago (Phillip Jackson, Applications Officer) 230 South LaSalle Street, Chicago, Illinois 60690-1414:

1. Betty Ruth Womack (as trustee for the L.T. Womack Family Trust and the L.T. Womack Marital Trust) Litchfield Park, Arizona; to retain voting shares of Corn Belt Bancorporation, Lincoln, Nebraska, and thereby indirectly retain voting shares of Union National Bank, Anita, Iowa.

B. Federal Reserve Bank of Dallas (W. Arthur Tribble, Vice President) 2200 North Pearl Street, Dallas, Texas 75201-2272:

1. Kelsoe Management Partnership, Ltd., Dallas, Texas; to acquire additional voting shares of WB&T Bancshares, Inc., Duncanville, Texas, and thereby indirectly acquire additional voting shares of Western Bank & Trust, Duncanville, Texas.

2. William Howard O'Brien, Amarillo, Texas; John Blake O'Brien, Amarillo, Texas; William Alexander O'Brien, Amarillo, Texas; Katherine O'Brien, Wallin, Mountain View, California and Mary Fay Moore, Amarillo, Texas, to acquire additional voting shares of Grayco Bancshares, Inc., Mclean, Texas, and thereby indirectly acquire additional voting shares of Bank of Commerce, Mclean, Texas.

Board of Governors of the Federal Reserve System, March 17, 2000.
Robert deV. Frierson,
Associate Secretary of the Board.

[FR Doc. 00-7134 Filed 3-22-00; 8:45 am]

BILLING CODE 6210-01-P